DEPARTMENT OF THE INTERIOR

National Park Service

[1790-ROVA-409]

Notice of Availability of the Record of Decision for the General Management Plan/Environmental Impact Statement for the Roosevelt-Vanderbilt National Historic Sites

AGENCY: National Park Service.

ACTION: Record of Decision.

SUMMARY: Pursuant to Section 102(2)(C) of the National Environmental Policy Act of 1969, as amended [42 U.S.C. 4332(2)(C)], the National Park Service (NPS) announces the availability of the Record of Decision for the General Management Plan/Environmental Impact Statement (GMP/EIS) for the Roosevelt-Vanderbilt National Historic Sites (NHS), in Hyde Park, New York. The Regional Director, Northeast Region, approved the Record of Decision for the GMP/EIS. The Record of Decision includes a statement of the decision made, a synopsis of other alternatives considered, the basis for the decision, a description of the environmentally preferable alternative, a finding on impairment of park resources and values, a listing of measures to minimize environmental harm, and an overview of public involvement in the decision-making process. The approved General Management Plan will guide long-term management of the Roosevelt-Vanderbilt NHS, which is comprised of three (3) units of the national park system: The Home of Franklin D. Roosevelt NHS; Eleanor Roosevelt NHS (also known as Val-Kill); and Vanderbilt Mansion NHS. As soon as practicable, the NPS will begin to implement the selected alternative, which is Action Alternative Two, the NPS preferred alternative, as described in the Abbreviated Final GMP/EIS issued on August 6, 2010.

FOR FURTHER INFORMATION CONTACT: Superintendent, Roosevelt-Vanderbilt National Historic Sites, 4097 Albany Post Road, Hyde Park, NY 12538; (845) 229-9116 ext. 33; Sarah_Olson@nps.gov.

SUPPLEMENTARY INFORMATION: The primary function of a general management plan is to clearly define a park's purpose and management direction over the long term, typically 15 to 20 years into the future. The plan describes the resource conditions and visitor experiences that are to be achieved and maintained. The clarification of what must be achieved according to law and policy is based on a review of the park's purpose, significance, and mission. The NPS seeks to have all parks operate under approved general management plans to ensure that park managers carry out as effectively and efficiently as possible the mission of the NPS.

Hyde Park, New York, is home to three national historic sites established by separate legislation: The Home of Franklin D. Roosevelt National Historic Site; Eleanor Roosevelt National Historic Site (also known as Val-Kill); and the Vanderbilt Mansion National Historic Site. The sites are combined into a single administrative unit, Roosevelt-Vanderbilt National Historic Sites, under one superintendent and operated by one staff. Together the parks include over 1,100 acres of Federally owned land along the east bank of the Hudson River. The GMP/EIS was created over several years under the guidance of an interdisciplinary planning team including the Superintendent, senior park staff, NPS regional office staff, and consultants. At the outset, the planning team recognized that, although a general management plan was needed for each of the three Roosevelt-Vanderbilt National Historic Sites, a single unifying plan was not only the most expeditious approach, but was also essential for continued coordinated management.

The planning process for the GMP/EIS was conducted with extensive public and agency involvement. During 2005 and 2006, the planning team held meetings with and/or contacted key stakeholders, agencies, Tribes, resource experts, and members of the public. Planning newsletters were distributed in 2006 and 2007 with updates on the planning process, draft statements of purpose and significance, preliminary planning issues, and describing three preliminary alternatives, and also included a mail-back card inviting comment. Over the course of the next two years, the planning team continued to brief and receive input from stakeholders.

The Draft GMP/EIS was released for public review and comment from December, 24, 2009, through February 28, 2010. The Draft GMP/EIS presented and evaluated three alternatives: The No-Action Alternative; Action Alternative One; and Action Alternative Two. Action Alternative Two was identified as the NPS Preferred Alternative. Copies of the Draft GMP/EIS were sent to individuals, agencies, Tribes, and organizations, and were made available at park visitor centers, local library, and on the NPS Planning, Environment, and Public Comment (PEPC) Web site (http://parkplanning.nps.gov/rova). Public open houses were held on January 28 and 29, 2010.

The comments received on the Draft GMP/EIS required only minor responses and editorial corrections; thus, an abbreviated format was used for the Final GMP/EIS. The Abbreviated Final GMP/EIS was issued on August 6, 2010. It included an analysis of agency and public comments received on the Draft GMP/EIS with NPS responses, errata sheets detailing editorial corrections to the Draft GMP/EIS, and copies of agency and substantive public comments. No changes were made to the alternatives or to the impact analysis presented in the Draft GMP/EIS. Therefore, Action Alternative Two remained the NPS Preferred Alternative.

The NPS has selected Action Alternative Two because it best fulfills the purposes of the parks and conveys the greatest number of beneficial results in comparison with the other alternatives. The selected action seeks to make the parks relevant to more audiences by encouraging greater civic participation in park activities, while significantly enhancing the historic character of park resources. Resource management efforts will focus on the landscape and be aimed at rehabilitating existing features, but will follow contemporary best practices for land management within select areas. A learning center will be established to expand the scope and magnitude of the educational programs. The selected action calls for a significant expansion of partnership activities in the operation of the sites and opens up greater potential for new approaches to generating revenue to help sustain and improve operations.

The Record of Decision is available online at the NPS Planning, Environment and Public Comment (PEPC) Web site (http://parkplanning.nps.gov/rova). A printed copy may be obtained by contacting the park at the address shown above.

Dennis R. Reidenbach,
Regional Director, Northeast Region, National Park Service.

[FR Doc. 2010-31904 Filed 12-17-10; 8:45 am]

BILLING CODE 4312-22-P